DEPARTMENT OF DEFENSE

Office of the Secretary

[Docket No. DoD-2007-OS-0129]

Submission for OMB Review; Comment Request

ACTION: Notice.

The Department of Defense has submitted to OMB for clearance the following proposal for collection of information under the provisions of the Paperwork Reduction Act (44 U.S.C. Chapter 35).

DATES: Consideration will be given to all comments received by August 6, 2008.

Title, Form and OMB Number: Department of Defense Education Activity (DoDEA) Customer Satisfaction Survey for Sponsors and Students; OMB Control Number 0704-0421.

Type of Request: Revision.

Number of Respondents: 2,627.

Responses per Respondent: 1.

Annual Responses: 2,627.

Average Burden per Response: 20 minutes.

Annual Burden Hours: 876.

Needs and Uses: The Department of Defense Education Activity (DoDEA) Customer Satisfaction Survey for Sponsors and Students is a tool used to measure the satisfaction level of sponsors and students with the programs and services provided by DoDEA. This collection is necessary to meet the Government Performance and Results Act of 1993, Public Law 103-62; 107 Stat. 285, that requires agencies to have strategic plans and to consult with affected persons. A major purpose of the regulation is to improve Federal program effectiveness and public accountability by promoting a new focus on results, service quality, and customer satisfaction.

Affected Public: Individuals or households.

Frequency: Biennially.

Respondent's Obligation: Voluntary.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: June 30, 2008.
Patricia L. Toppings,
Alternate OSD Federal Register Liaison Officer, Department of Defense.

[FR Doc. E8-15302 Filed 7-3-08; 8:45 am]

BILLING CODE 5001-06-P